DEPARTMENT OF THE INTERIOR

Bureau of Indian Affairs

[145A2100DD.AADD001000]

Advisory Board for Exceptional Children Meeting

AGENCY: Bureau of Indian Affairs, Interior.

ACTION: Notice of meeting.

SUMMARY: In accordance with the Federal Advisory Committee Act, the Bureau of Indian Education (BIE) is announcing that the Advisory Board for Exceptional Children (Advisory Board) will hold its next meeting in Washington, DC. The purpose of the meeting is to meet the mandates of the Individuals with Disabilities Education Act of 2004 for Indian children with disabilities.

DATES: The Advisory Board will meet on Thursday, October 9, 2014, from 8:30 a.m.-4:30 p.m., and Friday, October 10, 2014, from 8:30 a.m.-4:30 p.m. Eastern Time.

ADDRESSES: The meetings of Thursday, October 9, 2014, and Friday, October 10, 2014, will be held at 1951 Constitution Avenue NW., Mailstop 312-SIB, Washington, DC 20240; telephone number (202) 208-6123.

FOR FURTHER INFORMATION CONTACT: Ms. Sue Bement, Designated Federal Official, Bureau of Indian Education, Albuquerque Service Center, Division of Performance and Accountability, 1011 Indian School Road NW., P.O. Box 1088, Suite 332, Albuquerque, New Mexico 87103; telephone number (505) 563-5274.

SUPPLEMENTARY INFORMATION: In accordance with the Federal Advisory Committee Act, BIE is announcing that the Advisory Board will hold its next meeting in Washington, DC. The Advisory Board was established to advise the Secretary of the Interior, through the Assistant Secretary—Indian Affairs, on the needs of Indian children with disabilities, as mandated by the Individuals with Disabilities Act of 2004 (20 U.S.C. 1400 et seq.). The meetings are open to the public.

The following items will be on the agenda:

• Discussion with Dr. Charles Roessel, BIE Director.

• Public Comment (via conference call, October 10, 2014, meeting only *).

• Report from Gloria Yepa, Supervisory Education Specialist, BIE Division of Performance and Accountability.

• Work on BIE Advisory Board Annual Report.

• Discussion and Approval of Charter and By-Laws.

• BIE Advisory Board—Advice and Recommendations.

*During the October 10, 2014, meeting, time has been set aside for public comment via conference call from 1:00-1:30 p.m. Eastern Time. The call-in information is: Conference Number 1 (888) 417-0376, Passcode 1509140#.

Dated: September 18, 2014.
Kevin K. Washburn,
Assistant Secretary—Indian Affairs.

[FR Doc. 2014-22667 Filed 9-23-14; 8:45 am]

BILLING CODE 4310-6W-P